DEPARTMENT OF ENERGY

International Energy Agency meetings

AGENCY: Department of Energy, DOE.

ACTION: Notice of meetings.

SUMMARY: The Industry Advisory Board (IAB) to the International Energy Agency (IEA) will meet on June 28, 2011, at the headquarters of the IEA in Paris, France, in connection with a joint meeting of the IEA's Standing Group on Emergency Questions (SEQ) and the IEA's Standing Group on the Oil Market (SOM) on June 28; and on June 29 in connection with a meeting of the SEQ on June 29.

DATES: June 28-29, 2011.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on June 28, 2011, beginning at 9 a.m.; and on June 29 commencing at 9:30 a.m. The purpose of this notice is to permit attendance by representatives of U.S. company members of the IAB at a joint meeting of the IEA's Standing Group on Emergency Questions (SEQ) and the IEA's Standing Group on the Oil Market (SOM) on June 28, which is scheduled to be held at the headquarters of the IEA commencing at 9 a.m.; and at a meeting of the SEQ on June 29, commencing at 9:30 a.m.. The IAB will also hold a preparatory meeting among company representatives at the same location at 8:30 a.m. on June 29. The agenda for this preparatory meeting is to review the agenda for the SEQ meeting, to be held on June 29.

The agenda of the joint SEQ/SOM meeting on June 28 is under the control of the SEQ and the SOM. It is expected that the SEQ and the SOM will adopt the following agenda:

1. Adoption of the Agenda.

2. Approval of the Summary Record of the March 2011 Joint Session.

3. Medium-Term Goals for Global Engagement.

4. Medium-Term Oil and Gas Markets 2010: Part 1—Oil.

—Introduction;

—Oil Pricing;

—Oil Demand.

—Q&A.

—Oil Supply.

—Oil Refining & Products Markets.

—Market Outlook to 2016.

—Q&A.

5. Medium-Term Oil and Gas Markets 2010: Part 2—Gas.

6. Other Business.

—Tentative Schedule of Next Meetings:

—November 16, 2011.

—March 27-29, 2012.

—June 26-28, 2012.

—November 27-29, 2012.

7. Workshop: Economic Impacts of Oil Supply Disruptions.

The agenda of the SEQ meeting on June 29 is under the control of the SEQ. It is expected that the SEQ will adopt the following agenda:

1. Adoption of the Agenda.

2. Approval of the Summary Record of the 132nd Meeting.

3. Status of Compliance with IEP Stockholding Commitments.

—Update on IEA/EC Work Related to New EU Oil Stockholding Directive.

4. Emergency Response Review Program.

—Schedule of Emergency Response Reviews.

—Emergency Response Review of Australia.

—Questionnaire Response of Hungary.

5. Emergency Policy for Natural Gas.

—Report on Gas Security for Ministerial.

6. Emergency Response Exercises.

—Report on Workshop Following ERE5.

7. Cooperation with Non-Member Countries During Oil Supply Disruptions.

—Report on Recent Discussions with India and Thailand.

8. Emergency Response Measures.

—Authorization of Budget for Emergency Response Actions.

—Report on the Fuel Switching Questionnaire.

9. Energy Security Model MOSES.

—Presentation of Draft Model.

10. Policy and Other Developments in Member Countries.

—Sweden (exercise).

—United States.

—Japan.

11. Report from the Industry Advisory Board.

12. Activities with International Organizations and Non-Member Countries.

—APEC/ASEAN Emergency Response Exercise.

—China.

—Chile.

—Indonesia.

13. Documents for Information.

—Emergency Reserve Situation of IEA Member Countries on April 1, 2011.

—Base Period Final Consumption: 2Q 2010-1Q 2011.

—Updated Emergency Contacts List.

14. Other Business.

—Tentative Schedule of Next Meetings:

—November 16-17, 2011.

—March 27-29, 2012.

—June 26-28, 2012.

—November 27-29, 2012 .

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 15, 2011.
Diana D. Clark,
Assistant General Counsel for International and National Security Programs.

[FR Doc. 2011-15282 Filed 6-17-11; 8:45 am]

BILLING CODE 6450-01-P